DEPARTMENT OF AGRICULTURE

Rural Utilities Service

Georgia Transmission Corporation; Notice of Intent To Hold Public Scoping Meetings and Prepare an Environmental Assessment

AGENCY: Rural Utilities Service, USDA.

ACTION: Notice of intent to hold public scoping meetings and prepare an Environmental Assessment (EA).

SUMMARY: USDA Rural Development administers rural utilities programs through the Rural Utilities Service. USDA Rural Development (the Agency) intends to hold public scoping meetings and prepare an Environmental Assessment (EA) in connection with potential impacts related to projects proposed by Georgia Transmission Corporation (GTC), with headquarters in Tucker, Georgia. The proposal consists of the construction of approximately 55 miles of 500 kilovolt transmission line and approximately 13 miles of 230 kilovolt transmission line, a 500/230 kilovolt substation and a switching station. The 500-kilovolt transmission line project would be located in Putnam, Morgan, Walton and Oconee Counties, Georgia. The 230 kilovolt transmission line projects would be located in Walton County, Georgia. The substation and switching station are also located in Walton County, Georgia. In addition, a 230 kilovolt transmission line in Walton and Oconee Counties and a 230/115 kilovolt substation in Oconee County are included in the proposal as a connected action. GTC is requesting the Agency provide financing for the proposed action.

DATES: The Agency will conduct two Scoping Meetings in an open house format, seeking the input of the public and other interested parties. The meetings will be held from 5 p.m. until 7 p.m., on April 17 & 18, 2006.

ADDRESSES: The April 17, 2006 meeting will be held at the Carver Middle School Gymnasium, Monroe, Georgia, ZIP: 30655, Phone: 770 270-7741 or 770 267-6000. The address is 1095 Good Hope Road, Monroe, Georgia. The April 18, 2006 meeting will be held from 5 p.m. until 7 p.m., at the Madison-Morgan Cultural Center, Madison, Georgia, ZIP: 30650-1640, Phone: 706-342-4743. The Community Center address is 434 South Main Street, located on South Main Street between Foster Street and Hill Street.

An Electric Alternatives Evaluation and Macro Corridor Study Report, prepared by Georgia Transmission Corporation, will be presented at the public scoping meetings. The Report will be available for public review at the Agency's address provided in this notice, at the Agency's Web site: http://www.usda.gov/rus/ water/ees/ea.htm, at Georgia Transmission Corporation, 2100 East Exchange Place, Tucker, Georgia 30084 and at the:

Morgan County Library: 1131 East Avenue, Madison, GA, 706-342-1206.

Eatonton Putnam County Library: 309 North Madison Avenue, Eatonton, GA, 706-485-6768.

Walton-Monroe Public Library: 217 West Spring Street, Monroe, GA 30655, Phone: (770) 267-4630.

FOR FURTHER INFORMATION CONTACT: Stephanie Strength, Environmental Protection Specialist, USDA Rural Development, Utilities Programs, Engineering and Environmental Staff, 1400 Independence Avenue, SW., Stop 1571, Washington, DC 20250-1571, telephone (202) 720-0468. Mrs. Strength's e-mail address is stephanie.strength@wdc.usda.gov.

SUPPLEMENTARY INFORMATION: Georgia Transmission Corporation proposes to construct a 500 kilovolt transmission line between the proposed East Walton 500/230 kV Substation located in the vicinity of Highway 186 and Jones Woods Road in Walton County, Georgia to Georgia Power Company's proposed Rockville Switching Station that would be located approximately 3 miles southwest of Wallace Dam and 1 mile east of the intersection of the existing Scherer-Warthen 500 kV and Eatonton Primary-Wallace Dam 230 kV Transmission Lines in Putnam County, Georgia. The approximate length of the 500 kV Transmission Line is 55 miles. Georgia Transmission Corporation also proposes to construct a 230 kilovolt transmission line between the proposed East Walton 500/230 kV Substation and the proposed Bostwick Switching Station. The proposed Bostwick Switching Station would be located in the vicinity of the intersection of Georgia Transmission Corporation's existing East Social Circle-East Watkinsville 230 kV Transmission Line and the proposed East Walton-Rockville 500 kV Transmission Line. The approximate length of the East Walton-Bostwick 230 kV Transmission Line would be 3 miles. In addition, Georgia Transmission proposes to construct a 230 kilovolt transmission line between the proposed East Walton 500/230 kV Substation and MEAG Power's proposed Jack's Creek Switching Station that would be located in the proximity of GTC's LG&E Monroe Substation. The approximate length of the proposed East Walton-Jack's Creek 230 kilovolt Transmission Line is 9 miles. Lattice steel towers ranging in height from 80- to 150-feet would support the proposed East Walton-Rockville 500 kV conductors. It would require a right-of-way of 180 feet. Guyed and unguyed concrete or steel poles ranging in height from 80- to 120-feet would support the East Walton-Bostwick 230 kV and the East Walton-Jack's Creek 230 kV conductors. Both lines would require a right-of-way of 35 feet if located parallel to a road; 75-feet if located parallel to an existing transmission line; or 100-feet if located cross country. It is anticipated that all of the facilities would be in service in 2011.

Government agencies, private organizations, and the public are invited to participate in the planning and analysis of the proposed project. Representatives from the Agency and Georgia Transmission Corporation will be available at the scoping meeting to discuss the Agency's environmental review process, describe the project, the need for the project, macro corridors under consideration, and to discuss the scope of environmental issues to be considered, answer questions, and accept comments. Comments regarding the proposed action may be submitted (orally or in writing) at the public scoping meetings or in writing for receipt no later than May 18, 2006 to the Agency at the address provided in this notice.

From information provided in the alternative evaluation and site selection study, input that may be provided by government agencies, private organizations, and the public, Georgia Transmission Corporation will use to prepare an environmental analysis to be submitted to the Agency for review. The Agency will use the environmental analysis to determine the significance of the impacts of the project and if acceptable will adopt it as its environmental assessment of the project. The Agency's environmental assessment of the project would be available for review and comment for 30 days.

Should the Agency determine, based on the Environmental Assessment of the project, that the impacts of the construction and operation of the transmission line would not have a significant environmental impact, it will prepare a finding of no significant impact. Public notification of a finding of no significant impact would be published in the Federal Register and in newspapers with a circulation in the project area.

Any final action by the Agency related to the proposed project will be subject to, and contingent upon, compliance with environmental review requirements as prescribed by the Agency's environmental policies and procedures (7 CFR part 1794).

Dated: March 29, 2006.
Mark S. Plank,
Director, Engineering and Environmental Staff, USDA/Rural Development/Utilities Programs.

[FR Doc. E6-4879 Filed 4-4-06; 8:45 am]

BILLING CODE 3410-15-P